DEPARTMENT OF TRANSPORTATION

Federal Aviation Administration

19th Meeting: RTCA Special Committee 206/EUROCAE WG 76 Plenary: AIS and MET Data Link Services

AGENCY: Federal Aviation Administration (FAA), DOT.

ACTION: Notice of RTCA Special Committee 206/EUROCAE WG 76 Plenary: AIS and MET Data Link Services meeting.

SUMMARY: The FAA is issuing this notice to advise the public of a meeting of RTCA Special Committee 206/EUROCAE WG 76 Plenary: AIS and MET Data Link Services.

DATES: The meeting will be held December 7-11, 2009 from 9 a.m. to 5 p.m.

ADDRESSES: The meeting will be held at Gilruth Center, Brazos Room, Space Center Blvd, Gate 5, Building 207, Houston, TX 77058, 281-483-0304; Contact Person: Tom Evans, (P) 757-864-2499, (C) 757-268-4852, (E) e.t.evans@nasa.gov.

FOR FURTHER INFORMATION CONTACT: RTCA Secretariat, 1828 L Street, NW., Suite 805, Washington, DC 20036; telephone (202) 833-9339; fax (202) 833-9434; Web site http://www.rtca.org.

SUPPLEMENTARY INFORMATION: Pursuant to section 10(a)(2) of the Federal Advisory Committee Act (Pub. L. 92-463, 5 U.S.C., Appendix 2), notice is hereby given for a RTCA Special Committee 206/EUROCAE WG 76 Plenary: AIS and MET Data Link Services meeting. The agenda will include:

7 December—Monday

9 a.m. Opening Plenary

• Chairmen's remarks and Host's comments

• Introductions, review and approve meeting agenda and approval of previous meeting minutes

• Schedule for this week

• Action Item Review

• Schedule for next meetings

1 a.m. Presentations

• Proposal for a MASPS/MOPS for AIS/MET Data Link Services—Gary Livack & Mark Mutchler

• To be determined

1 p.m. SPR

8 December—Tuesday

9 a.m. Joint AIS and MET Subgroup Meetings

9 December—Wednesday

9 a.m. Joint AIS and MET Subgroup Meetings

10 December—Thursday

9 a.m. Joint AIS and MET Subgroup Meetings

11 December—Friday

9 a.m. Joint AIS and MET Subgroup Meetings

10:30 a.m. Plenary Session

• Other Business

• Meeting Plans and Dates

Attendance is open to the interested public but limited to space availability. With the approval of the chairmen, members of the public may present oral statements at the meeting. Persons wishing to present statements or obtain information should contact the person listed in the FOR FURTHER INFORMATION CONTACT section. Members of the public may present a written statement to the committee at any time.

Issued in Washington, DC, on November 12, 2009.
Francisco Estrada C.,
RTCA Advisory Committee.

[FR Doc. E9-27662 Filed 11-17-09; 8:45 am]

BILLING CODE 4910-13-P